DEPARTMENT OF THE INTERIOR

U.S. Geological Survey

Agency Information Collection: Comment Request

AGENCY: United States Geological Survey (USGS), Interior.

ACTION: Notice of a new collection.

SUMMARY: To comply with the Paperwork Reduction Act of 1995 (PRA), we are notifying the public that we will submit to OMB a new information collection request (ICR) for review and approval. This notice provides the public an opportunity to comment on the paperwork burden of this collection.

DATES: You must submit comment on or before October 27, 2008.

ADDRESSES: Send your comments to the IC to Phadrea Ponds, Information Collections Clearance Officer, U.S. Geological Survey, 2150-C Center Avenue, Fort Collins, CO 80525 (mail); (970) 226-9230 (fax); or pponds@usgs.gov (e-mail). Please reference Information Collection 1028-NEW, MASSWELL

FOR FURTHER INFORMATION CONTACT: John A. Colman, U.S. Geological Survey, 10 Bearfoot Road, Northborough, Massachusetts 01532 (mail); at 508-490-5027 telephone; or jacolman@usgs.gov (e-mail).

SUPPLEMENTARY INFORMATION: Title: Study on Arsenic and Uranium in Bedrock Wells of East Central Massachusetts.

OMB Control Number: 1028-new.

Abstract: Concerns about possible elevated uranium and arsenic in some aquifers that provide drinking water to east central Massachusetts have prompted state and federal agencies to begin a study to assess concentrations of these contaminants. The U.S. Geological Survey (USGS) and the Massachusetts Department of Environmental Protection (MDEP) are conducting the study with assistance of staff from the Massachusetts Department of Public Health, Bureau of Environmental Health (MDPH/BEH) to assess:

• The number of private wells containing raw-water concentrations of arsenic or uranium that are greater than the current drinking water standards

• The degree to which bedrock units can be associated with concentrations of uranium and arsenic

• Whether individuals consuming the water may have elevated concentrations of these elements in their urine.

The study will indicate whether there are correlations between arsenic and uranium concentrations, and bedrock units. This information will help guide future water-supply development and well-water testing. It will tell local health officials where the areas of concern are in their communities, and provide background concentrations by rock type for use in identifying contamination from human sources.

We will protect information from respondents considered proprietary under the Freedom of Information Act (5 U.S.C. 552) and its implementing regulations (43 CFR Part 2), and under regulations at 30 CFR 250.197, “Data and information to be made available to the public or for limited inspection.” Responses are voluntary. No questions of a “sensitive” nature are asked.

Frequency of Collection: One time only.

Respondent's Obligation: Voluntary.

Estimated Number and Description of Respondents: 1000 individual and household residents.

Estimated Number of Responses: 800 responses.

Annual Burden Hours: 400 hours.

Estimated Annual Reporting and Recordkeeping “Hour” Burden: We estimate the public reporting burden will average 30 minutes per response. This includes the time for reviewing instructions, collecting a water sample and completing the survey.

Estimated Annual Reporting and Recordkeeping “Non-Hour Cost”: We have not identified any “non-hour cost” burdens associated with this collection of information.

Public Disclosure Statement: The PRA (44 U.S.C. 3501, et seq. ) provides that an agency may not conduct or sponsor and you are not required to respond to, a collection of information unless it displays a currently valid OMB control number. Until OMB approves a collection of information, you are not obligated to respond.

Comments: Before submitting an ICR to OMB, PRA section 3506(c)(2)(A) (44 U.S.C. 3501, et seq. ) requires each agency“ * * * to provide notice * * * and otherwise consult with members of the public and affected agencies concerning each proposed collection of information * * *” Agencies must specifically solicit comments. We invite comments concerning this information collection on:

(1) Whether or not the collection of information is necessary, including whether or not the information will have practical utility;

(2) the accuracy of our estimate of the burden for this collection of information;

(3) ways to enhance the quality, utility, and clarity of the information to be collected; and

(4) ways to minimize the burden of the collection of information on respondents. Please note that the comments submitted in response to this notice are a matter of public record. Before including your address, phone number, e-mail address, or other personal identifying information in your comment, you should be aware that your entire comment, including your personal identifying information, may be made publicly available at any time. While you can ask OMB in your comment to withhold your personal identifying information from public review, we cannot guarantee that it will be done. To comply with the public process, we publish this Federal Register notice announcing that we will submit this ICR to OMB for approval. The notice provided the required 60 day public comment period.

USGS Information Collection Clearance Officer: Phadrea D. Ponds, 970-226-9445.

Dated: August 21, 2008.
Matthew Larsen,
Associate Director For Water.

[FR Doc. E8-19825 Filed 8-26-08; 8:45 am]

BILLING CODE 4311-AM-P